DEPARTMENT OF ENERGY

Federal Energy Regulatory Commission

[Docket No. RP01-292-000]

Mississippi River Transmission Corporation; Notice of Proposed Changes in FERC Gas Tariff

April 3, 2001.

Take notice that on March 29, 2001, Mississippi River Transmission Corporation (MRT) tendered for filing as part of its FERC Gas Tariff, Third Revised Volume No. 1, the Primary Sheets listed on Appendix A to the filing and the Alternate Tariff Sheet listed on Appendix B to the filing, to become effective May 1, 2001:

MRT states that the proposed changes would increase revenues from jurisdictional service by $9.4 million based on the 12-month period ending November 30, 2000, as adjusted.

MRT states that this filing is made in compliance with the requirements of Article V of the July 25, 1997 Stipulation and Agreement in Docket No. RP96-199-000, which was approved by the Commission in a letter order dated October 21, 1997. That Article requires MRT to make a Section 4 rate filing on or before April 1, 2001. The base period used in this filing is the twelve months ended November 30, 2000 and the test period is the nine months ending August 31, 2001.

MRT is filing primary tariff sheets and alternate tariff sheets. MRT requests that the primary tariff sheets be made effective on May 1, 2001. Under the alternate sheets, MRT proposes to implement market-based rates, terms and conditions under certain circumstances where transportation capacity on MRT is subject to competition. MRT requests authority to implement the alternate sheets as soon as possible in lieu of the primary sheets so that MRT may effectively respond to the competition that it faces. Accordingly, MRT requests that the Commission allow the alternate sheets to become effective on a prospective basis after the Commission's order on the alternate sheets. The tariff sheets also include additional miscellaneous changes to MRT's FERC Gas Tariff. In accordance with Section 154.312(j)(2) of the Commission's regulations, MRT will file Schedules G-1 through G-6 on or before April 13, 2001.

The rates set forth in the primary tariff sheets reflect the continuation of the straight fixed variable (SFV) method for cost classification, allocation and rate design, as envisioned by Section 284.7(e) of the Commission's regulations. The cost of service underlying MRT's rates in the primary tariff sheets is based on actual per book figures for the 12 months ended November 30, 2000 as adjusted for known and measurable changes anticipated to occur during the nine-month period ending August 31, 2001. The primary and alternate tariff sheets include other rate design and tariff changes, such as term-differentiated rates and a mechanism to recover the cost of capacity that is turned back to MRT. Finally, in the primary and alternate tariff sheets, MRT divides its current Field Zone into two separate zones—a North Field Zone and a South Field Zone—for purposes of transportation service. The boundary between the North and South Field Zones will be at MRT's Glendale Compressor Station located in Lincoln County, Arkansas.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8589 Filed 4-6-01; 8:45 am]

BILLING CODE 6717-01-M